DEPARTMENT OF HEALTH AND HUMAN SERVICES

Administration for Children and Families

Proposed Information Collection Activity; Native Employment Works (NEW) Program Plan Guidance and Report Requirements, (OMB No.: 0970-0174)

AGENCY: Division of Tribal TANF Management, Office of Family Assistance, Administration for Children and Families, HHS.

ACTION: Request for Public Comment.

SUMMARY: The Administration for Children and Families (ACF) is requesting a three-year extension of the form OFA-0086, NEW Plan Guidance and NEW Program Report (OMB #0970-0174, expiration 7/31/2019). There are changes requested to these forms, including the deletion of guidance for NEW programs included in Public Law 102-477 programs.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The NEW program plan guidance documents specify the information needed to complete a NEW program plan and explains the process for plan submission every third year and to complete the annual program report. The program plan is the application for NEW program funding and documents how the grantee will carry out its NEW program. The program report provides HHS, Congress, and grantees information to document and assess the activities and accomplishments of the NEW program.

Respondents: Indian tribes and tribal coalitions that run NEW programs.

Annual Burden Estimates
Instrument | Total number of respondents | Annual number of respondents | Number of responses per respondent | Average burden hours per response | Annual burden hours
NEW program plan guidance for non-477 Tribes | ¹ 15 | 15 | 1 | 29 | 435
NEW program report | ² 44 | 44 | 1 | 15 | 660
¹ We estimate that 44 of the 78 NEW grantees will not include their NEW programs in Public Law 102-477 projects. 44 grantees divided by 3 (because grantees submit the NEW plan once every 3 years) = 15.
² We estimate that 44 of the 78 NEW grantees will not include their NEW programs in Public Law 102-477 projects and therefore will submit the NEW program report to HHS.

Estimated Total Annual Burden Hours: 1095.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 612.

Mary B. Jones,
ACF/OPRE Certifying Officer.

[FR Doc. 2019-08249 Filed 4-23-19; 8:45 am]

BILLING CODE 4184-36-P